Title 3—

The President

Proclamation 10285 of October 8, 2021

Bears Ears National Monument

By the President of the United States of America

A Proclamation

President Barack Obama's establishment of the Bears Ears National Monument in Proclamation 9558 of December 28, 2016, represented the culmination of more than a century of efforts to protect the ancestral homeland of Tribal Nations that all refer to the area by the same name—Hoon'Naqvut (Hopi), Shash Jaa' (Navajo), Kwiyagatu Nukavachi (Ute), and Ansh An Lashokdiwe (Zuni): Bears Ears. Preserving the sacred landscape and unique cultural resources in the Bears Ears region was an impetus for passage of the Antiquities Act in 1906. As early as 1904, advocates for protection of cultural landscapes described for the Congress the tragedy of the destruction of objects of historic and scientific interest across the American Southwest and identified the Bears Ears region as one of seven areas in need of immediate protection. Nevertheless, for more than 100 years, indigenous people, historians, conservationists, scientists, archaeologists, and other groups advocated unsuccessfully for protection of the Bears Ears landscape. It was not until the Hopi Tribe, Navajo Nation, Ute Indian Tribe of the Uintah and Ouray Reservation, Ute Mountain Ute Tribe, and Pueblo of Zuni united in a common vision to protect these sacred lands and requested permanent protection from President Obama that Bears Ears National Monument became a reality. Few national monuments more clearly meet the Antiquities Act's criteria for protection than the Bears Ears Buttes and surrounding areas. This proclamation confirms, restores, and supplements the boundaries and protections provided by Proclamation 9558, including the continued reservation of land added to the monument by Proclamation 9681 of December 4, 2017.

As Proclamation 9558 recognizes, the greater Bears Ears landscape, characterized by deep sandstone canyons, broad desert mesas, towering monoliths, forested mountaintops dotted with lush meadows, and the striking Bears Ears Buttes, has supported indigenous people of the Southwest from time immemorial and continues to be sacred land to the Hopi Tribe, Navajo Nation, Ute Indian Tribe of the Uintah and Ouray Reservation, Ute Mountain Ute Tribe, and Pueblo of Zuni. Approximately two dozen other Tribal Nations and Pueblos have cultural ties to the area as well.

Describing as much as 13,000 years of human occupation of the Bears Ears landscape, Proclamation 9558 contextualizes the compelling need to protect one of the most extraordinary cultural landscapes in the United States. The proclamation describes the landscape's unique density of significant cultural, historical, and archaeological artifacts spanning thousands of years, including remains of single family homes, ancient cliff dwellings, large villages, granaries, kivas, towers, ceremonial sites, prehistoric steps cut into cliff faces, and a prehistoric road system that connected the people of Bears Ears to each other and possibly beyond. Proclamation 9558 also describes the cultural significance and importance of the area, exemplified by the petroglyphs, pictographs, and recent rock writings left by the indigenous people that have inhabited the area since time immemorial.

In addition to cultural and historic sites, Proclamation 9558 describes the Bears Ears landscape's unique geology, biology, ecology, paleontology, and topography. The proclamation identifies geologic formations rich with fossils that provide a rare and relatively complete picture of the paleoenvironment, striking landscapes, unique landforms, and rare and important plant and animal species. While not objects of historic and scientific interest designated for protection, the proclamation also describes other resources in the area, historic grazing, and world class outdoor recreation opportunities—including rock climbing, hunting, hiking, backpacking, canyoneering, whitewater rafting, mountain biking, and horseback riding—that support a booming travel and tourism sector that is a source of economic opportunity for local communities.

To protect this singular and sacred landscape, President Obama reserved approximately 1.35 million acres through Proclamation 9558 as the smallest area compatible with protection of the objects identified within the boundaries of the monument. He also established the Bears Ears Commission to ensure that management of the monument would be guided by, and benefit from, expertise of Tribal Nations and traditional and historical knowledge of the area.

On December 4, 2017, President Donald Trump issued Proclamation 9681 to reduce the lands within the monument by more than 1.1 million acres. In doing so, Proclamation 9681 removes protection from objects of historic and scientific interest across the Bears Ears landscape, including some objects that Proclamation 9558 specifically identifies by name for protection. Multiple parties challenged Proclamation 9681 in Federal court, asserting that it exceeds the President's authority under the Antiquities Act.

Restoring the Bears Ears National Monument honors the special relationship between the Federal Government and Tribal Nations, correcting the exclusion of lands and resources profoundly sacred to Tribal Nations, and ensuring the long-term protection of, and respect for, this remarkable and revered region. Given the unique nature and cultural significance of the objects identified across the Bears Ears landscape, the threat of damage and destruction to those objects, their spiritual, cultural, and historical significance to Tribal Nations, and the insufficiency of the protections afforded in the absence of Antiquities Act protections, the reservation described below is the smallest area compatible with the proper care and management of the objects of historic and scientific interest named in this proclamation and Proclamation 9558.

The Bears Ears landscape—bordered by the Colorado River to the west, the San Juan River and the Navajo Nation to the south, low bluffs and high mesas to the east and north, and Canyonlands National Park to the northwest, and brimming with towering sandstone spires, serpentine canyons, awe-inspiring natural bridges and arches, as well as the famous twin Bears Ears Buttes standing sentinel over the sacred region—is not just a series of isolated objects, but is, itself, an object of historic and scientific interest requiring protection under the Antiquities Act. Bears Ears is sacred land of spiritual significance, a historic homeland, and a place of belonging for indigenous people from the Southwest. Bears Ears is a living, breathing landscape, that—owing to the area's arid environment and overall remoteness, as well as the building techniques that its inhabitants employed—retains remarkable and spiritually significant evidence of indigenous use and habitation since time immemorial, including from the Paleoindian Period, through the time of the Basketmakers and Ancestral Pueblos, to the more recent Navajo and Ute period, and continuing to this day. There are innumerable objects of historic or scientific interest within this extraordinary landscape. Some of the objects are also sacred to Tribal Nations, are sensitive, rare, or vulnerable to vandalism and theft, or are dangerous to visit and, therefore, revealing their specific names and locations could pose a danger to the objects or the public. The variety, density, and prevalence of these objects, such as prehistoric roads, structures, shrines, ceremonial sites, graves, pots, baskets, tools, petroglyphs, pictographs, and items of clothing, all contribute to the uniqueness of this region and underscore its sacred nature and living spiritual significance to indigenous people.

Many of the Tribal Nations that trace their ancestral origin to this area and continue their spiritual practices on these lands today view Bears Ears as a part of the personal identity of their members and as a cultural living space—a landscape where their traditions began, where their ancestors engaged in and handed down cultural practices, and where they developed and refined complex protocols for caring for the land. The Bears Ears region is also a tangible location that is integral to indigenous ceremonial practices, cultural traditions, and the sustainment of the daily lives of indigenous peoples. Since time immemorial, the lands of the Bears Ears region have fostered indigenous identity and spirituality. Indigenous people lived, hunted, gathered, prayed, and built homes in the Bears Ears region. As a result, each geographic subregion and the mountains, canyons, mesa tops, ridges, rivers, and streams therein that make up the Bears Ears landscape hold cultural significance. These individual locales come together as objects of historic and scientific interest—many of which have spiritual significance to indigenous people and are located across this living landscape—to tell stories, facilitate the practice of traditions, and serve as a mnemonic device that elders use to teach younger generations where they came from, who they are, and how to live. Resources found throughout the Bears Ears region, including wildlife and plants that are native to the region, continue to serve integral roles in the development and practice of indigenous ceremonial and cultural lifeways. From family gatherings, dances, and ceremonies held on these sacred lands, to gathering roots, berries, firewood, pinon nuts, weaving materials, and medicines across the region, Bears Ears remains an essential landscape that members of Tribal Nations regularly visit to heal, practice their spirituality, pray, rejuvenate, and connect with their history.

The Bears Ears region is also important to, and shows recent evidence of, non-Native migrants to the area. From the smoothed-over surfaces of the Hole-in-the-Rock Trail to the historic cattle-ranching cabins, and the convoluted series of passages and hideouts used by men like Butch Cassidy, the Sundance Kid, and other members of the Wild Bunch on the Outlaw Trail, including Hideout Canyon, the Bears Ears landscape conveys the story of westward expansion of European Americans and the settlement of Latter-day Saint communities in southern Utah. Hispanic sheep herders from New Mexico also migrated into this area during the late 1800s, and many of their descendants continue to live in local communities.

Despite millennia of human habitation, the Bears Ears landscape remains one of the most ecologically intact and least-roaded regions in the contiguous United States. As a result, the area continues to provide habitat to a variety of threatened, endangered, sensitive, endemic, or otherwise rare species of wildlife, fish, and plants. The area also contains a diverse array of species that benefit from the preservation of the landscape's intact ecosystems.

The Bears Ears landscape also tells the stories of epochs past. The area's exposed geologic formations provide a continuous record of vertebrate life in North America as well as a rich history of invertebrate fossils. The Chinle Formation, and the Wingate, Kayenta, and Navajo Formations above it, demonstrate how the Triassic Period transitioned into the Jurassic Period and provide critical insight into both how dinosaurs dominated terrestrial ecosystems and how our mammalian ancestors evolved. The discovery of several taxa, including a prosauropod that gets its name from a Navajo word tied to the region where it was found, the archosauromorph Crosbysaurus harrisae, and a unique phytosaur, have occurred exclusively within Bears Ears or have significantly extended an extinct species' known range. While paleontologists have only recently begun to systematically survey and study much of the fossil record in this region, experts are confident that scientifically important paleontological resources remain to be discovered, and future exploration will greatly expand our understanding of prehistoric life on the Colorado Plateau.

The landscape itself is composed of several areas, each of which is unique and an object of scientific and historic interest requiring protection under the Antiquities Act. Near the center is the Bears Ears Buttes and Headwaters, the location of the iconic twin buttes, which soar over the surrounding landscape and maintain watch over the ancestral home of numerous Tribal Nations. Containing dense fir and aspen forests that provide firewood to heat homes as well as powerful medicines and habitat for wild game species, Tribal Nations view the high elevation oasis as the key to life in the Bears Ears region. The Bears Ears Buttes also hold historical significance to the Navajo people, as the landscape and natural cliff dwellings served as hiding places to escape the United States military during the forced Long Walk, where more than 11,000 Navajo were marched up to 450 miles on foot to internment camps in Fort Sumner, New Mexico. Many Navajo hid in the remote canyons to avoid the forced removal from their traditional homelands in the Southwest by the United States from 1864 to 1868.

In the northern part of the Bears Ears landscape lies Indian Creek, the home of a world-renowned canyon characterized by sheer red cliffs and spires of exposed and eroded layers of Navajo, Kayenta, Wingate, and Cedar Mesa Sandstone, including the iconic North and South Six-Shooter Peaks. The canyon includes famous vertical cracks striating its sandstone walls and the area provides important habitat for a multitude of plant and animal species. Indian Creek's palisades provide eyries for peregrine falcons and potential nesting sites for bald and golden eagles, and the Lockhart Basin area and Donnelly Canyon contain Mexican spotted owl habitat. The Indian Creek area further provides critical winter grounds for big-game species such as mule deer, elk, and bighorn sheep and potential habitat for endangered fish and threatened plant species. The prominent Bridger Jack and Lavender Mesas are home to largely unaltered relict plant communities composed of pinyon-juniper woodlands interspersed with small sagebrush islands. It is also in Indian Creek that one can find Newspaper Rock, a massive petroglyph panel displaying a notable concentration of rock writings from persons of the Basketmaker and Ancestral Pueblo periods, the Ute and Navajo people who still live in the Four Corners area and beyond, and early settlers of European descent. Indian Creek also contains possible evidence of trade with cultures extending into Mesoamerica, including a thousand-year-old ornamental sash found in the area made from azure and scarlet macaw feathers as well as a petroglyph featuring a macaw-like bird figure. Shay Canyon is a side canyon that houses extensive, well-preserved petroglyph panels from multiple prehistoric periods. The panels contain a unique rock writing style that is believed to be both Freemont and Ancestral Pueblo in origin. Harts Point is an escarpment that provides spectacular views of the Indian Creek Canyon. These mesa tops also contain evidence of historic connections of indigenous people to the region. Additionally, Indian Creek provides fossilized trackways of early tetrapods and fossilized traces of marine and aquatic creatures such as clams, crayfish, fish, and aquatic reptiles dating to the Triassic Period.

Southwest of Indian Creek and geographically nestled between the Needles District of Canyonlands National Park, the Dark Canyon Wilderness area, and the Glen Canyon National Recreation Area, lie Beef Basin and Fable Valley, areas characterized by well-preserved Ancestral Pueblo surface sites—including freestanding Pueblo masonry structures and towers—as well as petroglyphs and pictographs. The areas are unique in their high concentration of large, mesa-top Pueblo structures. Sites in this region may also provide evidence of some of the furthest north migration of Pueblo in the Mesa Verde region.

Just south of Indian Creek, the westernmost edge of the Abajo Mountains forms the eastern boundary of the Bears Ears landscape. An island laccolith series of peaks and domes known also as the Blue Mountains due to the appearance of their heavily forested slopes contrasted against the red desert that surrounds them, the Abajo Mountains are rich in wildlife and home to several rare and sensitive plant species. As a result of the breadth of species, the Abajo Mountains have long been a traditional hunting ground for the indigenous people that have lived in the area and are held sacred by a number of Tribal Nations, including the Navajo Nation, Pueblo of Zuni, and Ute Indian Tribes. These peaks represent the highest elevations in the Bears Ears landscape and provide unbroken views of the entire region.

South of Beef Basin and Indian Creek, the landscape contains a number of sandstone canyons that drain the northern edge of the Abajo Mountains and Elk Ridge, including the Tuerto, Trough, Ruin, and North Cottonwood Canyons, at the bottom of which runs a perennial creek. Ancestral Pueblo sites within this area have special significance to the Pueblos of New Mexico, who identify these sites as part of their ancestral footprints that extend their traditional territory north of the Abajo Mountains. The area, which is composed of both Cedar Mesa Sandstone and Chinle Formation deposits, has a very high potential for Permian and Triassic fossils.

The South Cottonwood Canyon region, characterized by prominent sandstone escarpments surrounded by forests of pinyon, juniper, and Gambel oak, interspersed with stands of ponderosa pine and mixed conifers, is situated west of the Abajo Mountains and south of the prominent sandstone towers known as the Chippean Rocks. The isolated area contains intact cultural landscapes of early Ancestral Pueblo communities. Some sites are organized as a larger central village surrounded by smaller family-sized dwellings, while others are large and inaccessible granaries. This region is home to a diversity of wildlife, including Townsend's big-eared bats, beavers, and ringtail cats, as well as the Cliff Dwellers Pasture Research Natural Area, an ungrazed box canyon with a unique vegetative community and an imposing sandstone arch and natural bridge. The area also contains excellent big game habitat and is considered prime mule deer, elk, and black bear hunting grounds.

Further west, South Cottonwood Canyon is home to a unique density of Pueblo I to early Pueblo II village sites that are considered important to both archaeologists and Tribal Nations. One site, a collapsed two-story block masonry structure that appears to be an early version of a great house, was built during a time when the development of this kind of community structure was only beginning in Chaco Canyon. More recently, the South Cottonwood Canyon area proved critical to the survival of the White Mesa Ute during Anglo settlement of southern Utah. Paleontologically, there is high potential fossil yield on both the west side of the area, which contains portions of the Triassic Period Chinle and Moenkopi Formations, and the east side, which is composed of Jurassic Period Glen Canyon Group Kayenta Formation. The area also provides critical habitat for Mexican spotted owls, peregrine falcons, golden eagles, and spotted bats.

The Dark Canyon, Dry Mesa complex, located between Beef Basin and White Canyon, is wild and remote. In Dark Canyon—a canyon system that includes Peavine, Woodenshoe, and other minor tributaries—rock walls, which tower 3,000 feet above the canyon floor, provide a sense of solitude and isolation from the surrounding mesa tops. The canyon system, one of the only entirely intact and protected canyons from its headwaters on the Colorado Plateau to its confluence with the Colorado River, includes numerous hanging gardens, springs, and riparian areas and provides habitat for a wide range of wildlife, including known populations of Mexican spotted owl. Dry Mesa is relatively flat with stands of ponderosa pine, oak, and pinyon and juniper that provide foraging habitat for golden eagles and peregrine falcons. Many Tribal Nations have strong connections to sites in the area from three specific time periods: ancient hunter-gatherers during the Archaic period, Ancestral Pueblos during the Pueblo III period, and finally, Navajo, Ute, and Paiute families just before and during European migration into the Four Corners area. Visitors to the Dark Canyon Wilderness area will find the Doll House, a fully-intact and well-preserved single-room granary. Located at the bottom of Horse Pasture Canyon and Dark Canyon, visitors will also find Scorup Cabin, a line cabin originally built in Rig Canyon and later moved to its current location, that cowboys used as a summer camp while running cattle in the area. The area also contains exposures of Permian Period Cutler Group deposits that have a high potential to contain both vertebrate and invertebrate fossils.

The White Canyon region, west of Dark Canyon, is a remote area featuring an extensive complex of steep and narrow canyons cut through light-colored Cedar Mesa Sandstone. Once used by outlaws to evade authorities, the area's slot canyons, including the Black Hole, Fry Canyon, and Cheesebox Canyon, now draw adventurers in search of multi-day, technical canyoneering opportunities. The entire White Canyon area has a rich paleontological history. Research in the area is ongoing, but recent discoveries of track sites in the Triassic Moenkopi Formation and an assemblage of invertebrate burrows suggest that a diverse fauna once thrived here. Mollusks, phytosaurs, and possible theropod and ornithischian fossils have also been found in White Canyon.

Located between the Abajo Mountains and the Colorado River, the high plateau of Elk Ridge provides stunning views of the surrounding canyons and the Bears Ears Buttes to the south. Visitors passing through the Notch, a naturally occurring narrow pass between north and south Elk Ridge, are treated to spectacular vistas of Dark Canyon to the west and Notch Canyon to the east. The area's higher elevations, which contain pockets of ancient Engelmann spruce, rare stands of old-growth ponderosa pine, aspen, and subalpine fir, and a genetically distinct population of Kachina daisy, provide welcome respite from the higher temperatures found in the region's lower elevations, especially during the summer. There is evidence that indigenous people have hunted and gathered plants on Elk Ridge for at least 8,000 years, a practice that continues today and is considered sacred by the Navajo Nation. Elk Ridge also has a long history of livestock grazing by Navajo and Ute families and later Anglo settlers. While the mesa top is primarily dry, water naturally occurs at the area's seeps and springs, as well as the ephemeral Duck Lake, a seasonal wetland located on top of Elk Ridge that results from snowmelt. The upper reaches of the ridge also contain Upper Triassic formations with a high potential to contain fossils.

To the east of Elk Ridge lies a major system of canyons on National Forest System lands, including Hammond Canyon, Upper Arch Canyon, Texas Canyon, and Notch Canyon. This deeply incised canyon system is composed of stunning red sandstone walls, white pinnacles, lush green foliage, and several small waterfalls. Uniquely, the area also contains large sandstone towers and hoodoos in a forested setting. The Hammond Canyon area, which is central to the history of the White Mesa Utes, contains numerous Ancestral Pueblo sites, including cliff dwellings. Hammond Canyon also contains an Ancestral Pueblo village with structures and pottery from multiple Ancestral Pueblo periods. High fossil potential exists in both the Upper Triassic and Lower Jurassic Glen Canyon Sandstone of Hammond Canyon's lower half as well as the Permian Period Cedar Mesa Sandstone found in its upper half.

Just south of Elk Ridge, Arch Canyon is a 12-mile long box canyon containing numerous arches, including Cathedral Arch, Angel Arch, and Keystone Arch. The area is teeming with fossilized remains, including numerous specimens from the Permian and Upper Permian eras. Cliff dwellings and hanging gardens are located throughout the canyon. Arch Canyon Great House, which spans the Pueblo II and III periods and contains pictographs and petroglyphs ranging from the Archaic to the historic periods, is located at the canyon's mouth. A perennial stream that provides potential habitat for sensitive fish species and for the threatened Navajo sedge is located in the canyon's bottom.

Mule Canyon, a 500-foot deep, 5-mile long chasm, is situated northeast of the Fish Creek area and southeast of the Bears Ears Buttes. Throughout the canyon, cliff dwellings and other archaeological sites are sheltered by rock walls composed of alternating layers of red and white sandstone. Among those are the stunning House on Fire, which has different masonry styles that indicate several episodes of construction and use. The area's rich archaeological history is also evidenced on the nearby tablelands, where the Mule Canyon Village site allows visitors to view the exposed masonry walls of ancient living quarters and a partially restored kiva. Recent research suggests that Ancestral Pueblos in this area may have cultivated a variety of plants that are uncommon across the wider landscape and persist to this day, such as the Four Corners potato, goosefoot, wolfberry, and sumac. Although similar cultivation may have been occurring near Ancestral Pueblo sites across the Bears Ears landscape, it appears to have been particularly prevalent in and around the Mule, South Cottonwood, Dry, Arch, and Owl Canyons.

Tilted at almost 20 degrees and running along a north-south axis from the foothills of the Abajo Mountains, past the San Juan River, and onto the Navajo Nation, the serrated cliffs of the Comb Ridge monocline are visible from space and have both spiritual and practical significance to many Tribal Nations. It is in this area that one can find a series of alcoves in Whiskers Draw that have sheltered evidence of human habitation for thousands of years, including the site where Richard Wetherill first identified what we know today as the Basketmaker people, as well as Milk Ranch Point, where early Ancestral Pueblo farmers found refuge when the climate turned hotter and dryer at lower elevations. Comb Ridge, flanked on the west by Comb Wash and on the east by Butler Wash, holds additional evidence of centuries of human habitation, including cliff dwellings, such as the well-known Butler Wash Village and Monarch Cave, kivas, ceremonial sites, and rock writings, like the Procession Panel, Wolfman Panel, and Lower Butler Wash Panel, a wall-sized mural depicting San Juan Anthropomorph figures dating to the Basketmaker period that is considered important for understanding the daily life and rituals of the Basketmaker people. Chacoan roads as well as the handholds and steps carved into cliff faces found in this area formed part of the region's migration system and are integral to the story of the Bears Ears landscape. The Comb Ridge area also contains a rich paleontological history, including an Upper Triassic microvertebrate site with greater taxonomic diversity than any other published site of the same nature in Utah, and the earliest recorded instance of a giant arthropod trackway in Utah. Paleontologists have also found phytosaur and dinosaur fossils from the Triassic Period and have identified new species of plant-eating crocodile-like reptiles and rich bonebeds of lumbering sauropods in the area.

South Cottonwood Wash is an extensive drainage just east of Comb Ridge that extends from the Abajo Mountains to the San Juan River near Bluff, Utah. The drainage contains at least three great houses as well as a number of alcove sites, and it has a high density of petroglyphs and pictographs, including a cave with more than 200 handprints in a variety of colors. There is also evidence of a Chacoan road that connected multiple great houses and kiva sites. These prehistoric transportation systems in the Bears Ears region are critical to understanding the trading patterns, economy, and social organization of ancient Pueblo communities and the other major cultural centers with whom they interacted, such as Chaco Canyon.

At the far southern end of the Bears Ears landscape lies Valley of the Gods, a broad expanse of sandstone monoliths, pinnacles, and other geological features of historic and scientific interest. Towering spires of red sandstone that rise from the valley floor are held sacred by the Navajo people, who view the formations as ancient warriors frozen in stone and places of power in which spirits reside. The austere valley, which is noteworthy in both its geology and ecology, provides habitat for Eucosma navajoensis, an endemic moth that lives nowhere else. The Mars-like landscape also contains evidence of our own planet's distant past, including early tetrapod trackways, Paleozoic freshwater sharks, ray-finned fishes, lobe-finned fishes, giant primitive amphibians, and multiple unique taxa of mammal-like reptiles. Paleontologists have also uncovered notable plant macrofossils including ancestral conifers, giant horsetail-like plants, ferns the size of trees, and lycopsids (similar to modern clubmoss).

The San Juan River forms the southern boundary of the Bears Ears landscape. One of the four sacred rivers that Tribal Nations believe were established by the gods to act as defensive guardians over their ancestral lands, the river is closely tied to traditional stories of creation, danger, protection, and healing. The Lime Ridge Clovis site demonstrates that the history of human occupation within the river corridor dates back at least 13,000 years. The Sand Island Petroglyph Panel presents petroglyphs primarily from the Basketmaker through the Pueblo III periods as well as more modern Navajo and Ute carvings. There are also a number of Ancestral Pueblo structures that are accessible by river, such as River House. Nearby San Juan Hill was the last major obstacle for the Hole-in-the-Rock expedition and presents visible evidence of the weary expedition's effort to cross Comb Ridge, including parts of a road, wagon ruts, and an inscription at the top of the ridge. The river corridor also contains a number of unique geologic formations, such as the well-known balancing rock at Mexican Hat, and provides important habitat for the threatened yellow-billed cuckoo and the endangered southwestern willow flycatcher. The river itself is home to two endangered fish species: Colorado pikeminnow, the largest minnow in North America, which is believed to have evolved more than 3 million years ago, and the razorback sucker, the only member of its genus.

Cedar Mesa is located in the heart of the Bears Ears landscape, west of Comb Ridge and north of the San Juan River. Ranging from approximately 4,000 to 6,500 feet in elevation, the approximately 400-square mile plateau is of deep significance to Tribal Nations. Characterized by pinyon-juniper forests on the mesa tops and canyons along its periphery, the entirety of Cedar Mesa is an object of scientific and historic interest, providing a broader context for the individual resources found there. It is the density of world-class cultural resources found throughout the remote, sloping plateau and its numerous canyons that make Cedar Mesa truly unique. For example, an open-twined yucca fiber sandal believed to be more than 7,000 years old was discovered in a dry shelter located in a narrow slickrock canyon in Cedar Mesa. Moon House is an example of iconic Pueblo-decorated architecture and was likely the last occupied site on Cedar Mesa. On the top of the plateau, Chacoan roads connect several Ancestral Pueblo great houses that show architectural influence from the Chaco Canyon region as well as ceramics that demonstrate both historic and modern Pueblo connections. And in the heart of Cedar Mesa, a multi-room, multi-story great house contains kivas with distinctive Chacoan features that are much larger than kivas found elsewhere on Cedar Mesa. Today, Cedar Mesa is home to bighorn sheep, but fossil evidence in the area's sandstone has revealed large, mammal-like reptiles that burrowed into the sand to survive the blistering heat of the end of the Permian Period, when the region was dominated by a seaside desert. Later, during the Upper Triassic Period, seasonal monsoons flooded an ancient river system that fed a vast desert here. Salvation Knoll, a point from which lost Latter-day Saint pioneers were able to obtain their bearings on Christmas Day in 1879, is also located in the area.

Cedar Mesa is striated with deep chasms housing remarkably intact Ancestral Pueblo sites. John's Canyon and Slickhorn Canyon, which empty into the San Juan River in the Glen Canyon National Recreation Area to the south, contain numerous petroglyphs, pictographs, and Ancestral Pueblo structures built into elongated alcoves on buff-colored cliffs. Similarly, the canyons on the east side of Cedar Mesa hold a significant density of archaeological sites providing a glimpse into the region's past, including rock writings and Ancestral Pueblo dwellings. The Citadel cliff dwelling is just one example of the striking Ancestral Pueblo sites located in Road Canyon, while other sites include painted handprints and evidence of daily life left by Ancestral Pueblos. Located to the north of Road Canyon, the Fish Canyon area contains a number of Pueblo structures. The Fish Canyon area also contains one of the few perennial streams in the area and an important potential habitat for the Mexican spotted owl. Finally, the rust-colored, 145-foot span of Nevills Arch awaits those who make the challenging trek down Owl Canyon. Opening to a height of 80 feet and named after Norman Nevills, the first boatman to take paying customers on the Colorado River through the Grand Canyon, the arch creates a striking window to the sky on the upper reaches of the canyon walls.

Grand Gulch, a mostly dry canyon that meanders for nearly 50 miles on the western edge of Cedar Mesa and is replete with thousands of cliff dwellings and rock writing sites, likely contains the highest concentration of Ancestral Pueblo sites on the Colorado Plateau. Initially occupied in the Basketmaker II and III periods, Grand Gulch's initial inhabitants left pictographs and constructed shallow pithouses and camps on the mesa top and dry shelters for storage. One pictograph dating from this time period depicting two large, anthropomorphic figures is of special religious significance to Tribal Nations. Grand Gulch also contains a multitude of Pueblo II to III sites and was one of the first prehistoric national historic districts designated on the National Register of Historic Places. The area contains the Turkey Pen site, which is believed to provide some of the earliest evidence of turkey domestication in North America, a pristine kiva in a remote canyon bend, and countless other unique Pueblo structures, such as Junction Village, a large Pueblo habitation site; Split Level Village, a multi-level Pueblo habitation; and Bannister House, a habitation consisting of two relatively intact structures and a spring at the base of the cliff face. Grand Gulch also contains unique artifacts, such as a tattoo needle, a site containing a multichromatic pictograph of a mask, important historic archaeological inscriptions from the Wetherill expedition, and a multitude of other rock writings.

Kane Gulch is a tributary canyon of Grand Gulch incised through Cedar Mesa Sandstone and clogged with house-sized boulders. The canyon houses an aspen grove—an uncommon occurrence at such elevations in the desert—and contains a number of archaeological sites that are perched on canyon walls high above cottonwood trees that provide welcomed shade to the riparian areas in the canyon bottom. Nearby, Bullet Canyon, which intersects with the upper reaches of Grand Gulch, also holds numerous structures, petroglyphs, pictographs, and other artifacts, such as the well-preserved Perfect Kiva—a partly restored kiva, accompanied by several rooms and other smaller structures.

To the west of Cedar Mesa, the Clay Hills, Red House Cliffs, and Mike's Canyon form the southwest corner of the Bears Ears landscape. This remote and rarely visited area remains largely unstudied by scientists. Tool- and arrowhead-making sites, dwellings, and granaries in the lower reaches of the canyons indicate that they sustained Archaic, Basketmaker, and Ancestral Pueblo cultures. The area's unforgiving topography, composed of expansive stretches of slickrock periodically interrupted by deep canyons, challenged Latter-day Saint settlers that traveled along the Hole-in-the-Rock Trail and left wheel ruts and other traces of pioneer life. The harsh ecosystem still supports a herd of desert bighorn sheep throughout the year, and in the canyon bottoms, including Mike's Canyon, intrepid beavers can be found in small areas of riparian habitat. The Clay Hills area contains the first discovery of vertebrate fossils from the Bears Ears region, which was also the first occurrence of a phytosaur identified in Utah.

Standing alone west of Cedar Mesa and adjacent to the Glen Canyon National Recreation Area, Mancos Mesa is likely the largest isolated slickrock mesa in southern Utah. Covering approximately 180 square miles, Mancos Mesa's roughly triangular shape is bounded by towering cliffs, some reaching more than 1,000 feet high. The entire area is dominated by Navajo Sandstone and is incised with canyons, including Moqui Canyon, a 20-mile canyon with sheer walls rising over 600 feet. The mesa, an ecological island in the sky, contains a relict plant community that supports Native perennial grasses, shrubs, and some cacti. Mancos Mesa also contains archaeological remains dating back 2,000 years and spanning across the Basketmaker II and III and Pueblo I, II, and III periods.

Protection of the Bears Ears area will preserve its spiritual, cultural, prehistoric, and historic legacy and maintain its diverse array of natural and scientific resources, ensuring that the prehistoric, historic, and scientific values of this area remain for the benefit of all Americans. For more than 100 years, and sometimes predating the enactment of the Antiquities Act, Presidents, Members of Congress, Secretaries of the Interior, Tribal Nations, State and local governments, scientists, and local conservationists have understood and championed the need to protect the Bears Ears area. The area contains numerous objects of historic and scientific interest and also includes other resources that contribute to the social and economic well-being of the area's modern communities as a result of world-class outdoor recreation opportunities, including unparalleled rock climbing available at places like the canyons in Indian Creek; the paradise for hikers, birders, and horseback riders provided in areas like the canyons east of Elk Ridge; and other destinations for hunting, backpacking, canyoneering, whitewater rafting, and mountain biking, that are important to the increasing travel- and tourism-based economy in the region.

WHEREAS, section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected; and

WHEREAS, Proclamation 9558 of December 28, 2016, designated the Bears Ears National Monument in the State of Utah and reserved approximately 1.35 million acres of Federal lands as the smallest area compatible with the proper care and management of the objects of historic and scientific interest declared part of the monument; and

WHEREAS, Proclamation 9681 of December 4, 2017, modified the management direction of the Bears Ears National Monument and modified the boundaries to add approximately 11,200 new acres of Federal lands, and the objects of historic and scientific interest contained therein, and to exclude more than 1.1 million acres of Federal lands from the reservation, including lands containing objects of historic and scientific interest identified as needing protection in Proclamation 9558, such as Valley of the Gods, Hideout Canyon, portions of the San Juan River and Abajo Mountains, genetically distinct populations of Kachina daisy, and the Eucosma navajoensis moth; and

WHEREAS, December 4, 2017, was the first time that a President asserted that the Antiquities Act included the authority to reduce the boundaries of a national monument or remove objects from protection under the Antiquities Act since passage of the Federal Land Policy and Management Act of 1976, as amended (43 U.S.C. 1701 et seq.); and

WHEREAS, the entire Bears Ears landscape is profoundly sacred to sovereign Tribal Nations and indigenous people of the southwest region of the United States; and

WHEREAS, I find that the unique nature of the Bears Ears landscape, and the collection of objects and resources therein, make the entire landscape within the boundaries reserved by this proclamation an object of historic and scientific interest in need of protection under 54 U.S.C. 320301; and

WHEREAS, I find that all the historic and scientific resources identified above and in Proclamation 9558 are objects of historic or scientific interest in need of protection under 54 U.S.C. 320301; and

WHEREAS, I find that there are threats to the objects identified in this proclamation; and

WHEREAS, I find, in the absence of a reservation under the Antiquities Act, the objects identified in this proclamation and in Proclamation 9558 are not adequately protected by otherwise applicable law or administrative designations because neither provide Federal agencies with the specific mandate to ensure proper care and management of the objects, nor do they withdraw the lands from the operation of the public land, mining, and mineral leasing laws; thus a national monument reservation is necessary to protect the objects of historic and scientific interest in the Bears Ears region for current and future generations; and

WHEREAS, I find that the boundaries of the monument reserved by this proclamation represent the smallest area compatible with the protection of the objects of scientific or historic interest as required by the Antiquities Act; and

WHEREAS, it is in the public interest to ensure the preservation, restoration, and protection of the objects of scientific and historic interest on the Bears Ears region, including the entire monument landscape, reserved within the boundaries of the Bears Ears National Monument, as established by this proclamation;

NOW, THEREFORE, I, JOSEPH R. BIDEN JR., President of the United States of America, by the authority vested in me by section 320301 of title 54, United States Code, hereby proclaim the objects identified above and in Proclamation 9558 that are situated upon lands and interests in lands owned or controlled by the Federal Government to be the Bears Ears National Monument (monument) and, for the purpose of protecting those objects, reserve as part thereof all lands and interests in lands not currently reserved as part of a monument reservation and that are owned or controlled by the Federal Government within the boundaries described on the accompanying map, which is attached to and forms a part of this proclamation. These reserved Federal lands and interests in lands consist of those lands reserved as part of the Bears Ears National Monument as of December 3, 2017, and the approximately 11,200 acres added by Proclamation 9681, encompassing approximately 1.36 million acres. As a result of the distribution of the objects across the Bears Ears landscape, and additionally and independently, because the landscape itself is an object in need of protection, the boundaries described on the accompanying map are confined to the smallest area compatible with the proper care and management of the objects of historic or scientific interest identified above and in Proclamation 9558.

All Federal lands and interests in lands within the boundaries of the monument are hereby appropriated and withdrawn from all forms of entry, location, selection, sale, or other disposition under the public land laws or laws applicable to the United States Forest Service (USFS), from location, entry, and patent under the mining laws, and from disposition under all laws relating to mineral and geothermal leasing, other than by exchange that furthers the protective purposes of the monument.

This proclamation is subject to valid existing rights. If the Federal Government subsequently acquires any lands or interests in lands not currently owned or controlled by the Federal Government within the boundaries described on the accompanying map, such lands and interests in lands shall be reserved as a part of the monument, and objects identified above that are situated upon those lands and interests in lands shall be part of the monument, upon acquisition of ownership or control by the Federal Government.

The Secretary of Agriculture and the Secretary of the Interior (Secretaries) shall manage the monument through the USFS and the Bureau of Land Management (BLM), respectively, in accordance with the terms, conditions, and management direction provided by this proclamation and, unless otherwise specifically provided herein, those provided by Proclamation 9558, the latter of which are incorporated herein by reference. The USFS shall manage that portion of the monument within the boundaries of the National Forest System (NFS), and the BLM shall manage the remainder of the monument. The lands administered by the USFS shall be managed as part of the Manti-La Sal National Forest. The lands administered by the BLM shall be managed as a unit of the National Landscape Conservation System. To the extent any provision of Proclamation 9681 is inconsistent with this proclamation or Proclamation 9558, the terms of this proclamation and Proclamation 9558 shall govern. To further the orderly management of monument lands, the monument will be jointly managed as a single unit consisting of the entire 1.36 million-acre monument.

For purposes of protecting and restoring the objects identified above and in Proclamation 9558, the Secretaries shall jointly prepare and maintain a new management plan for the entire monument and shall promulgate such regulations for its management as they deem appropriate. The Secretaries, through the USFS and BLM, shall consult with other Federal land management agencies or agency components in the local area, including the National Park Service, in developing the management plan. In promulgating any management rules and regulations governing the NFS lands within the monument and developing the management plan, the Secretary of Agriculture, through the USFS, shall consult with the Secretary of the Interior, through the BLM. The Secretaries shall provide for maximum public involvement in the development of that plan, including consultation with federally recognized Tribes and State and local governments. In the development and implementation of the management plan, the Secretaries shall maximize opportunities, pursuant to applicable legal authorities, for shared resources, operational efficiency, and cooperation.

In recognition of the importance of knowledge of Tribal Nations about these lands and objects and participation in the care and management of the objects identified above, and to ensure that management decisions affecting the monument reflect expertise and traditional and historical knowledge of Tribal Nations, a Bears Ears Commission (Commission) is reestablished in accordance with the terms, conditions, and obligations set forth in Proclamation 9558 to provide guidance and recommendations on the development and implementation of management plans and on management of the entire monument.

To further the protective purposes of the monument, the Secretary of the Interior shall explore entering into a memorandum of understanding with the State of Utah that would set forth terms, pursuant to applicable laws and regulations, for an exchange of land owned by the State of Utah and administered by the Utah School and Institutional Trust Lands Administration within the boundary of the monument for land of approximately equal value managed by the BLM outside the boundary of the monument. Consolidation of lands within the monument boundary through exchange in this manner provides for the orderly management of public lands and is in the public interest.

The Secretaries shall manage livestock grazing as authorized under existing permits or leases, and subject to appropriate terms and conditions in accordance with existing laws and regulations, consistent with the care and management of the objects identified above and in Proclamation 9558. Should grazing permits or leases be voluntarily relinquished by existing holders, the Secretaries shall retire from livestock grazing the lands covered by such permits or leases pursuant to the processes of applicable law. Forage shall not be reallocated for livestock grazing purposes unless the Secretaries specifically find that such reallocation will advance the purposes of this proclamation and Proclamation 9558.

Nothing in this proclamation shall be deemed to revoke any existing withdrawal, reservation, or appropriation; however, the monument shall be the dominant reservation.

Warning is hereby given to all unauthorized persons not to appropriate, injure, destroy, or remove any feature of the monument and not to locate or settle upon any of the lands thereof.

If any provision of this proclamation, including its application to a particular parcel of land, is held to be invalid, the remainder of this proclamation and its application to other parcels of land shall not be affected thereby.

IN WITNESS WHEREOF, I have hereunto set my hand this eighth day of October, in the year of our Lord two thousand twenty-one, and of the Independence of the United States of America the two hundred and forty-sixth.

Billing code 3395-F2-P

[FR Doc. 2021-22672

Filed 10-14-21; 8:45 am]

Billing code 4310-10-C